DEPARTMENT OF COMMERCE

National Oceanic and Atmospheric Administration

50 CFR Part 679

[Docket No. 090511911-0307-02]

RIN 0648-AX89

Fisheries of the Exclusive Economic Zone Off Alaska; Chinook Salmon Bycatch Management in the Bering Sea Pollock Fishery; Correction

AGENCY: National Marine Fisheries Service (NMFS), National Oceanic and Atmospheric Administration (NOAA), Commerce.

ACTION: Correction to final rule.

SUMMARY: This document contains three corrections to the final rule pertaining to Fisheries of the Exclusive Economic Zone Off Alaska; Chinook Salmon Bycatch Management in the Bering Sea Pollock Fishery published on August 30, 2010. These corrections amend content within tables to eliminate potential confusion by the public.

DATES: Effective September 29, 2010.

FOR FURTHER INFORMATION CONTACT: Seanbob Kelly, 907-586-7228.

SUPPLEMENTARY INFORMATION:

Background

A final rule was published in the Federal Register on August 30, 2010 (75 FR 53026) that revises several sections of regulations that pertain to the management of Chinook salmon bycatch in the Bering Sea subarea of the Bering Sea and Aleutian Islands Management Area (BSAI). This final rule applies to owners and operators of catcher vessels, catcher/processors, motherships, inshore processors, and the six Western Alaska Community Development Quota (CDQ) Program groups participating in the pollock (Theragra chalcogramma) fishery that is managed under the Fishery Management Plan for Groundfish of the BSAI.

The first error is an incorrect table number that exists within a table used to determine the amount of Chinook salmon associated with each CDQ group. The second and third errors occur in the “locate and remove” table. The “locate and remove” table is used to define specific technical changes in regulatory citations. The errors occurred in the listing of specific citation changes in this table. These changes are unnecessary and need to be removed because the citations are identified earlier for removal in the amendatory instructions. These errors should be corrected immediately to eliminate potential confusion by the regulated public.

The Assistant Administrator for Fisheries, NOAA (AA), finds good cause pursuant to 5 U.S.C. 553(b)(B) to waive prior notice and the opportunity for public comment because it would be unnecessary and contrary to the public interest. These errors should be corrected immediately to eliminate potential confusion by the regulated public. If the effective date for these corrections is delayed to solicit prior public comment, these technical errors will not be corrected by the effective date of this final rule, thereby undermining the conservation and management objectives of the FMP. The AA further finds, pursuant to 5 U.S.C 553(d)(3), good cause to waive the thirty (30) day delayed effectiveness period for the reasons stated above.

NMFS is correcting these errors and is not making substantive changes to the document in rule FR Doc. 2010-20618 published on August 30, 2010 (75 FR 53026).

Need for Correction

Accordingly, the final rule published on August 30, 2010 (75 FR 53026), to be effective September 29, 2010, is corrected as follows:

§ 679.21 [Corrected]

1. On page 53061, in § 679.21 (f)(4)(i)(D), in the fourth column of the table, under the column heading “Reduce the B season allocation by the sum of the amount of Chinook salmon associated with each vessel or CDQ group not participating in an IPA:”, correct the reference to “Table 43d” to read as “Table 47d”.

§§ 679.7 and 679.26 [Corrected]

2. On page 53069, in the “locate and remove” table at the bottom of the page, under all four columns, remove line seven, that starts with, “§ 679.7(d)(18)” and remove line eleven that starts with “§ 679.26(c)(1).”

Dated: September 20, 2010.
Eric C. Schwaab,
Assistant Administrator for Fisheries, National Marine Fisheries Service.

[FR Doc. 2010-24024 Filed 9-23-10; 8:45 am]

BILLING CODE 3510-22-S